DEPARTMENT OF LABOR

Employment and Training Administration

[NAFTA-7634 and NAFTA-7634A]

Wolverine World Wide, Inc. Formerly Frolic Footwear, a Division of Wolverine Manufacturing Group, Arkansas Operations, Monette, AR; and Wolverine World Wide, Inc. Formerly Frolic Footwear, a Division of Wolverine Manufacturing Group, Arkansas Operations, Jonesboro, AR; Amended Certification Regarding Eligibility To Apply for NAFTA-Transitional Adjustment Assistance

In accordance with Section 250(a), Subchapter D, Chapter 2, Title II, of the Trade Act of 1974, as amended (19 U.S.C. 2273), the Department of Labor issued a Certification of Eligibility to Apply for NAFTA Transitional Adjustment Assistance on December 3, 2002, applicable to workers of Wolverine World Wide, Inc., formerly Frolic Footwear, a Division of Wolverine Manufacturing Group, Arkansas Operations, Monette, Arkansas. The notice was published in the Federal Register on December 23, 2002 (67 FR 78257).

At the request of the company, the Department reviewed the certification for workers of the subject firm. The company reports that worker separations occurred at the Jonesboro, Arkansas location of Wolverine World Wide, Inc., Arkansas Operations. The Jonesboro, Arkansas location produces cut to fit upper component parts needed for the production of house slippers and clog slippers at the Monette, Arkansas location of the subject firm.

Based on these findings, the Department is amending the certification to include workers of the Jonesboro, Arkansas location of Wolverine World Wide, Inc., Arkansas Operations.

The intent of the Department's certification is to include all workers of Wolverine World Wide, Arkansas Operations affected by the shift in production of house slippers and clog slippers to Mexico.

The amended notice applicable to NAFTA-07634 is hereby issued as follows:

“All workers of Wolverine World Wide, Inc., formerly Frolic Footwear, a Division of Wolverine Manufacturing Group, Arkansas Operations, Monette, Arkansas (NAFTA-7634), and Jonesboro, Arkansas (NAFTA-7634A), who became totally or partially separated from employment on or after October 23, 2001, through December 3, 2004, are eligible to apply for NAFTA-TAA under Section 250 of the Trade Act of 1974.”

Signed in Washington, DC this 13th day of January 2003.
Linda G. Poole,
Certifying Officer, Division of Trade Adjustment Assistance.

[FR Doc. 03-2861 Filed 2-5-03; 8:45 am]

BILLING CODE 4510-30-P